DEPARTMENT OF THE TREASURY

Bureau of Alcohol, Tobacco and Firearms

27 CFR Part 9

[Notice No. 914 Re: Notice Nos. 903 and 909]

Availability of Comments; Proposed California Coast American Viticultural Area (AVA)

AGENCY: Bureau of Alcohol, Tobacco and Firearms (ATF), Department of the Treasury.

ACTION: Proposed rule; availability of comments.

SUMMARY: The Bureau of Alcohol, Tobacco and Firearms (ATF) is issuing this document to announce that copies of the comments generated by California Coast viticultural area Notice of Proposed Rulemaking (NPRM) will be available for public viewing in San Francisco, CA. The California Coast NPRM comments will be available in San Francisco, CA, until this rulemaking process is complete. Copies of these same comments will also be available in Washington, DC. See the ADDRESSES section for specific locations.

ADDRESSES: Copies of the petition, the proposed regulations, the appropriate maps, and any written, e-mail or fax comments received will be available for public inspection, by appointment, at 221 Main Street, 11th Floor, San Francisco, CA 94105. For further information, or to make an appointment, call Specialist Nancy Sutton at (415) 744-9420. The comments are also available during normal business hours at the ATF Reading Room, Office of Public Affairs and Disclosure, Room 6480, 650 Massachusetts Avenue, NW., Washington, DC 20226.

FOR FURTHER INFORMATION CONTACT: Specialist Nancy Sutton, Regulations Division, Bureau of Alcohol, Tobacco and Firearms, 221 Main Street, 11th Floor, San Francisco, CA 94105, (415) 744-9420.

SUPPLEMENTARY INFORMATION:

Background

The Bureau of Alcohol, Tobacco and Firearms (ATF) is making available copies of comments on the California Coast viticultural area petition for public viewing in San Francisco, CA. ATF is providing these copies to accommodate the high level of interest in California generated by the Notice of Proposed Rulemaking for the California Coast AVA. The San Francisco ATF office does not have comments related to any other ATF notices, and will close this public reading file at the completion of the California Coast AVA rulemaking process. Written comments to this Notice and all other notices are available for review in Washington, D.C.

Approved: April 2, 2001.
Bradley A. Buckles,
Director.

[FR Doc. 01-8797 Filed 4-9-01; 8:45 am]

BILLING CODE 4810-31-P